DEPARTMENT OF HEALTH AND HUMAN SERVICES

National Institutes of Health

National Cancer Institute; Amended Notice of Meeting

Notice is hereby given of a change in the meeting of the National Cancer Institute Council of Research Advocates, September 9, 2019 at 9:00 a.m. to 4:00 p.m., National Institutes of Health, Building 40, Room 1201/1203, 40 Convent Drive, Bethesda, MD 20892 which was published in the Federal Register on July 29, 2019, 84 FR 37657.

This meeting notice is amended to change the meeting start time. The meeting will be held on September 9, 2019 at 9:30 a.m. at the National Institutes of Health, Building 40, Room 1201/1203, 40 Convent Drive, Bethesda, MD 20892. The meeting is open to the public.

Dated: September 5, 2019.
Melanie J. Pantoja,
Program Analyst, Office of Federal Advisory Committee Policy.

[FR Doc. 2019-19613 Filed 9-10-19; 8:45 am]

BILLING CODE 4140-01-P